DEPARTMENT OF LABOR

Employment and Training Administration

[TA-W-39,461]

D'Clase Cutting Services, L.C.; Medley, FL; Notice of Termination of Investigation

Pursuant to Section 221 of the Trade Act of 1974, an investigation was initiated on June 18, 2001, in response to a petition filed by a company official on behalf of workers at D'Class Cutting Service. L.C., Medley, Florida.

The petition group of workers is subject to an ongoing investigation for which a determination has not yet been issued (TA-W-39,239). Consequently, further investigation in this case would serve no purpose, and the investigation has been terminated.

Signed in Washington, DC, this 23rd day of July, 2001.
Linda G. Poole,
Certifying Officer, Division of Trade Adjustment Assistance.

[FR Doc. 01-19606 Filed 8-3-01; 8:45 am]

BILLING CODE 1510-30-M